DEPARTMENT OF TRANSPORTATION

ITS Joint Program Office; Intelligent Transportation Systems Program Advisory Committee; Notice of Meeting

AGENCY: Research and Innovative Technology Administration, U.S. Department of Transportation.

ACTION: Notice.

This notice announces, pursuant to Section 10(a)(2) of the Federal Advisory Committee Act (FACA) (Pub. L. 72-363; 5 U.S.C. app. 2), a meeting of the Intelligent Transportation Systems (ITS) Program Advisory Committee (ITSPAC). The meeting will be held on March 2, 2011, from 1:30 p.m. to 5 p.m., and March 3, 2011, from 8 a.m. to 4 p.m. at the Ann Arbor Marriott Ypsilanti Hotel at Eagle Crest, 1275 S. Huron Street, Ypsilanti, Michigan 48197.

The ITSPAC, established under Section 5305 of Public Law 109-59, Safe, Accountable, Flexible, Efficient Transportation Equity Act: A Legacy for Users, August 10, 2005, was created to advise the Secretary of Transportation on all matters relating to the study, development, and implementation of intelligent transportation systems. Through its sponsor, the ITS Joint Program Office (JPO), the ITSPAC makes recommendations to the Secretary regarding ITS Program needs, objectives, plans, approaches, content, and progress.

Following is the meeting's preliminary agenda. March 2: (1) Opening Remarks by Dr. Joseph Sussman, Committee Chairman; (2) Welcome Remarks by Peter Appel, RITA Administrator; (3) Review of the ITSPAC's January 6-7, 2011, meeting; and (4) Technology and Communications Discussion. March 3: (1) Transformation Discussion; (2) Sub-committee Breakout Meetings; (3) Sub-committee Report-outs/Presentations; and (4) Summary and Wrap-up.

The meeting will be open to the public, but space will be available on a first-come, first-served basis. Members of the public who wish to present oral statements at the meeting must request approval from Mr. Stephen Glasscock, the Committee Designated Federal Officer, at (202) 366-9126 no later than February 22, 2011.

Questions about the agenda or written comments may be submitted by U.S. Mail to: U.S. Department of Transportation, Research and Innovative Technology Administration, ITS Joint Program Office, Attention: Stephen Glasscock, 1200 New Jersey Avenue, SE., HOIT, Room E33-415, Washington, DC 20590 or faxed to (202) 493-2027. The JPO requests that written comments be submitted no later than February 22, 2011.

Notice of this meeting is provided in accordance with the FACA and the General Services Administration regulations (41 CFR part 102-3) covering management of Federal advisory committees.

Issued in Washington, DC, on the 1st day of February 2011.
John Augustine,
Managing Director, ITS Joint Program Office.

[FR Doc. 2011-2702 Filed 2-7-11; 8:45 am]

BILLING CODE 4910-HY-P